DEPARTMENT OF DEFENSE

GENERAL SERVICES ADMINISTRATION

NATIONAL AERONAUTICS AND SPACE ADMINISTRATION

48 CFR Chapter 1

[Docket No. FAR-2024-0051, Sequence No. 2]

Federal Acquisition Regulation; Federal Acquisition Circular 2024-04; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rule appearing in Federal Acquisition Circular (FAC) 2024-04, which amends the Federal Acquisition Regulation (FAR). Interested parties may obtain further information regarding this rule by referring to FAC 2024-04, which precedes this document.

DATES: April 1, 2024.

ADDRESSES: The FAC, including the SECG, is available at https://www.regulations.gov.

FOR FURTHER INFORMATION CONTACT: For clarification of content, contact the analyst whose name appears in the table below. Please cite FAC 2024-04 and the FAR Case number. For information pertaining to status or publication schedules, contact the Regulatory Secretariat Division at 202-501-4755 or GSARegSec@gsa.gov. An asterisk (*) next to a rule indicates that a regulatory flexibility analysis has been prepared.

Rules Listed in FAC 2024-04
Subject | FAR case | Analyst
Establishing Federal Acquisition Regulation Part 40 | 2022-010 | Jones.

SUPPLEMENTARY INFORMATION: A summary for the FAR rule follows. For the actual revisions and/or amendments made by this FAR rule, refer to the specific subject set forth in the document preceding this summary. FAC 2024-04 amends the FAR as follows:

Establishing Federal Acquisition Regulation Part 40 (FAR Case 2022-010)

This final rule amends the Federal Acquisition Regulation (FAR) to add the framework for a new FAR part on information security and supply chain security. The new FAR part will be used to prescribe policies and procedures for managing information security and supply chain security when acquiring products and services. The creation of this new FAR part does not implement any of the information security and supply chain security policies or procedures. Relocation of the related existing policies or procedures will be done through separate rulemaking.

William F. Clark,
Director, Office of Government-wide Acquisition Policy, Office of Acquisition Policy, Office of Government-wide Policy.

[FR Doc. 2024-06412 Filed 3-29-24; 8:45 am]

BILLING CODE 6820-EP-P